DEPARTMENT OF HEALTH AND HUMAN SERVICES

Substance Abuse and Mental Health Services Administration

Statement of Organization, Functions, and Delegations of Authority

AGENCY: Substance Abuse and Mental Health Services Administration (SAMHSA).

ACTION: Organization, functions, and delegations of authority.

SUMMARY: SAMHSA has modified its organizational structure.

SUPPLEMENTARY INFORMATION: Part M of the Substance Abuse and Mental Health Services Administration (SAMHSA) Statement of Organization, Functions, and Delegations of Authority for the Department of Health and Human Services at 71 FR 19740-19741, April 17, 2006, is amended to reflect changes of the functional statements for the Center for Substance Abuse Treatment (CSAT). This amendment reflects the addition of one new division and two branches. CSAT has taken the lead in addressing the substance use disorder (SUD) treatment needs of Americans, focusing primarily on opioid treatment, developing a crisis continuum, improving adult and adolescent substance use treatment, and increasing access to and the quality of SUD treatment and recovery services. CSAT is dedicated to collaborating with grantees and stakeholders to enhance the accessibility of innovative services and evidence-based treatment modalities through grants and technical assistance.

In order to enhance administrative and operational efficiencies, CSAT proposes that each supervisor within the center should have a staff to supervisor ratio of 1 supervisor to 10 staff person or less. There is currently a twelve to one staff to supervisor ratio in the Division of Services Improvement (DSI)—with one branch having 17 staff. Managing 10 or more employees can be challenging for a first-line supervisor, who must effectively handle employee management and oversee grants and contracts. By adding the Division of Health Systems Improvement (DHSI) and two branches, Integrated Care Branch (ICB) and Opioid Treatment Branch (OTB) the staff to supervisor ratio would decrease to eight to one. Moreover, streamlined and smaller divisions/branches, with specific focus areas, will provide additional oversight and management by the second-level supervisor for these important Federal grants and contracts.

Center for Substance Abuse Treatment

Division of Health Systems Improvement

The proposed DHSI will focus on equity, medications for opioid use disorder (MOUD), and the continuum of care consistent with and necessary for the achievement of goals outlined in the President's Unity Agenda and the Office of National Drug Control Policy's National Drug Control Strategy. Refining the alignment of grant portfolios by the scope and span of grants and function, subject matter areas, age group focus (adolescents versus adults), and geographic focus (community versus state) will allow for improved efficiencies and service. The two branches in DHSI will be ICB and OTB. The new division will allow for dedicated leadership focusing on opioid treatment, developing a crisis continuum, improving adult and adolescent substance use treatment, and increasing access to and the quality of SUD treatment and recovery services. The proposed new division and two new branches are better aligned based on content and goal; the major grant programs impacted by this change are described below.

ICB will primairly focus on increasing access to and improving the quality of services of comprehensive, coordinated, patient-centered care across the continuum. The branch will manage the Minority AIDS Initiative (MAI) and Screening, Brief Intervention, and Referral to Treatment (SBIRT) programs both of which are authorized under the Public Health Service Act (PHSA), title V, section 509. MAI seeks to increase engagement in care for racial and ethnic underrepresented individuals with SUD and/or co-occurring substance use and mental disorders (COD) who are at risk for or living with HIV/AIDS and receive HIV/AIDS services/treatment. SBIRT is a comprehensive, integrated, public health approach to the delivery of early intervention and treatment services for persons with substance use disorders, as well as those who are at risk of developing these disorders.

• OTB will primarily focus on providing evidence-based comprehensive care to individuals with opioid use disorder (OUD), reduce harm, and effectively address the opioid crisis through service grants primarily to community-based organizations. This includes service grants that support the provision of MOUD such as methadone, buprenorphine and naltrexone which allow patients to receive treatment while maintaining their daily responsibilities and lives. Work in this branch will include engaging in community outreach and education efforts to raise awareness about the opioid epidemic, prevention strategies, and available treatment options. This is different from the work done in our state-based funding programs (State Opioid Response and Substance Use Prevention, Treatment, and Recovery Services Block Grants) which are housed in the Division of State and Community Systems (DSCS) and separate from the focus of the Division of Pharmacologic Therapies (DPT) which works with Opioid Treatment Programs to provide regulatory and provider support and does not fund opioid treatment. There is no overlap in the work of the existing divisions, DSCS and DPT, and the proposed OTB within the proposed DHSI. The OTB will manage the Medication-Assisted Treatment—Prescription Drug and Opioid Addiction (MAT-PDOA) and Targeted Capacity Expansion: Special Projects (TCE-SP) programs, both of which are authorized under section 509 of the PHSA, as amended. The purpose of MAT-PDOA is to provide resources to help expand and enhance access to MOUD. It is expected that this program will help to (1) increase access to MOUD for individuals with OUD, including individuals from diverse racial, ethnic, sexual and gender minority communities; and (2) decrease illicit opioid use and prescription opioid misuse. The purpose of TCE-SP is to implement targeted strategies for the provision of SUD or COD harm reduction, treatment, and/or recovery support services to support an under-resourced population or unmet need identified by the community.

Delegations of Authority

All delegations and redelegations of authority to officers and employees of SAMHSA which were in effect immediately prior to the effective date of this reorganization shall continue to be in effect.

Authority: 44 U.S.C. 3101.

Xavier Becerra,
Secretary of Health and Human Services.

[FR Doc. 2024-17131 Filed 8-2-24; 8:45 am]

BILLING CODE P